DEPARTMENT OF TRANSPORTATION

Federal Aviation Administration

Approval of Noise Compatibility Program for Modesto City-County Airport, Modesto, CA

AGENCY: Federal Aviation Administration, DOT.

ACTION: Notice.

SUMMARY: The Federal Aviation Administration (FAA) announces its findings on the noise compatibility program submitted by the City of Modesto under the provisions of Title I of the Aviation Safety and Noise Abatement Act, as amended, (Pub. L. 96-193) (hereinafter referred to as “the Act”) and 14 CFR Part 150. These findings are made in recognition of the description of Federal and nonfederal responsibilities in Senate Report No. 96-52 (1980). On January 9, 2009, the FAA determined that the noise exposure maps submitted by the City of Modesto under Part 150 were in compliance with applicable requirements.

DATES: Effective Date: The effective date of the FAA's approval of the Noise Compatibility Program for Modesto City-County Airport is June 2, 2010.

FOR FURTHER INFORMATION CONTACT: Camille Garibaldi, Environmental Protection Specialist, FAA Western-Pacific Region, San Francisco Airports District Office, 831 Mitten Road, Suite 210, Burlingame, California, telephone number (650) 876-2778 extension 613. Documents reflecting this FAA action may be reviewed at this same location.

SUPPLEMENTARY INFORMATION: This notice announces that the FAA has given its overall approval to the Noise Compatibility Program for Modesto City-County Airport, effective June 2, 2010. Under section 104(a) of the Aviation Safety and Noise Abatement Act of 1979, as amended (herein after referred to as the “Act”) [recodified as 49 U.S.C. 47504], an airport operator who has previously submitted a Noise Exposure Map may submit to the FAA a Noise Compatibility Program which sets forth the measures taken or proposed by the airport operator for the reduction of existing non-compatible land uses and prevention of additional non-compatible land uses within the area covered by the Noise Exposure Maps. The Act requires such programs to be developed in consultation with interested and affected parties including local communities, government agencies, airport users, and FAA personnel.

Each airport noise compatibility program developed in accordance with Federal Aviation Regulations (FAR) Part 150 is a local program, not a Federal program. The FAA does not substitute its judgment for that of the airport proprietor with respect to which measures should be recommended for action. The FAA's approval or disapproval of FAR Part 150 program recommendations is measured according to the standards expressed in Part 150 and the Act, and is limited to the following determinations:

a. The Noise Compatibility Program was developed in accordance with the provisions and procedures of FAR Part 150;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in FAR Part 150, section 150.5. Approval is not a determination concerning the acceptability of land uses under Federal, State, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the program are eligible for grant-in-aid funding from the FAA under the Airport and Airway Improvement Act of 1982, as amended. Where Federal funding is sought, requests for project grants must be submitted to the FAA Western-Pacific Region, San Francisco Airports District Office in Burlingame, California.

The City of Modesto submitted to the FAA on October 2, 2008, the Noise Exposure Maps for evaluation. The FAA determined that the Noise Exposure Maps were in compliance with applicable requirements on January 9, 2009. Notice of this determination was published in the Federal Register on January 26, 2009.

The Modesto City-County Airport study contains a proposed noise compatibility program comprised of actions designed for phased implementation by airport management and adjacent jurisdictions. It was requested that the FAA evaluate and approve this material as a Noise Compatibility Program as described in 49 U.S.C. 47504 (formerly Section 104(b) of the Act). The FAA began its review of the program on December 9, 2009 and was required by a provision of the Act to approve or disapprove the program within 180 days (other than the use of new or modified flight procedures for noise control). Failure to approve or disapprove such program within the 180-day period shall be deemed to be an approval of such program.

The Noise Compatibility Program recommended two noise abatement elements, four land use management elements and one program management element. The FAA completed its review and determined that the procedural and substantive requirements of the Act and FAR Part 150 have been satisfied. The overall program was approved, by the Manager of the Airports Division, Western-Pacific Region, effective June 2, 2010.

Approval was granted for one Noise Abatement Element, four Land Use Management Elements and one Program Management Element. The approved measures included: Designate a commercial service hold area near midfield; Adopt the Modesto City-County Airport Part 150 Noise Compatibility Program by reference in the cities of Modesto and Ceres, and Stanislaus County General Plans; Consistently designate the area northwest of the airport within the City of Modesto and Stanislaus County General Plan; The City of Modesto should consider adopting an airport compatibility checklist for discretionary review of projects within its vicinity; Adopt a Noise Overlay Zone; and Update Noise Exposure Maps and Noise Compatibility Program.

The Noise Abatement Element—Pursue a change to the Department of Defense's Instrument Flight Rule Supplement was disapproved for purposes of Part 150. The FAA disapproved the element due to lack of supporting analysis in the Noise Compatibility Plan. However, the disapproval does not prohibit the City of Modesto from working with the Department of Defense to revise the recommended operational hours in the Instrument Flight Rule Supplement on a voluntary basis.

The FAA determinations are set forth in detail in the Record of Approval signed by the Manager of the Airports Division, Western-Pacific Region, on June 2, 2010. The Record of Approval, as well as other evaluation materials and the documents comprising the submittal, are available for review at the FAA office listed above and at the administrative offices of the Modesto City-County Airport. The Record of Approval also will be available on-line at: http://www.faa.gov/airports/environmental/airport_noise/part_150/states/.

Issued in Hawthorne, California, on June 18, 2010.
Brian Q. Armstrong,
Acting Manager, Airports Division, Western-Pacific Region, AWP-600.

[FR Doc. 2010-16751 Filed 7-8-10; 8:45 am]

BILLING CODE 4910-13-P